DEPARTMENT OF ENERGY

Federal Energy Regulatory Commission

[Docket No. CP08-33-000]

Dominion Transmission, Inc.; Notice of Intent To Prepare an Environmental Assessment for the Proposed Dominion Hub I Project and Request for Comments on Environmental Issues

January 11, 2008.

The staff of the Federal Energy Regulatory Commission (FERC or Commission) will prepare an environmental assessment (EA) that will discuss the environmental impacts of the Dominion Hub I Project, involving construction and operation of natural gas facilities by Dominion Transmission, Inc. (Dominion) in Westmoreland County, Pennsylvania. The EA will be used by the Commission in its decision-making process to determine whether the project is in the public convenience and necessity.

This notice announces the opening of the scoping period that will be used to gather environmental input from the public and interested agencies on the project. Your input will help the Commission staff determine which issues need to be evaluated in the EA. Please note that the scoping period will close on February 11, 2008. Details on how to submit comments are provided in the Public Participation section of this notice.

If you are a landowner receiving this notice, you may be contacted by a Dominion representative about the acquisition of an easement to construct, operate, and maintain the proposed project facilities. The pipeline company would seek to negotiate a mutually acceptable agreement. However, if the project is approved by the Commission, that approval conveys with it the right of eminent domain. Therefore, if easement negotiations fail to produce an agreement, Dominion could initiate condemnation proceedings in accordance with Pennsylvania state law.

A fact sheet prepared by the FERC entitled “An Interstate Natural Gas Facility on My Land? What Do I Need To Know?” addresses a number of typically asked questions, including the use of eminent domain and how to participate in the Commission's proceedings. It is available for viewing on the FERC Internet Web site (http://www.ferc.gov).

With this notice, we ¹ are asking other federal, state, local, and tribal agencies with jurisdiction and/or special expertise with respect to environmental issues to cooperate with us in the preparation of the EA. Agencies that would like to request cooperating status should follow the instructions for filing comments provided below.

¹ “We,” “us,” and “our” refer to the environmental staff of the FERC's Office of Energy Projects.

Summary of the Proposed Project

Dominion seeks authorization to construct a new compressor station housing two 2,370-horsepower (hp) reciprocating gas compressor units, totaling 4,740 hp. Dominion would also install about 2 miles of 20-inch-diameter pipeline (in two sections) and a meter and regulator station (meter station). All facilities would be constructed in Westmoreland County, Pennsylvania. The project would receive about 200,000 dekatherms of natural gas per day (Dth/d) in summer months and 150,000 Dth/d in winter months from Rockies Express Pipeline, LLC's proposed REX East Pipeline (currently under Commission review in Docket No. CP07-208-000) and deliver this gas to BP Energy Company. No non-jurisdictional facilities are proposed as a part of the Hub I Project.

Appendix A presents a detailed map identifying all facilities associated with this project.²

² The appendices referenced in this notice are not being printed in the Federal Register. Copies are available on the Commission's Internet Web site (http://www.ferc.gov) at the “eLibrary” link or from the Commission's Public Reference Room at (202) 502-8371. For instructions on connecting to eLibrary, refer to the “Additional Information” section at the end of this notice. Copies of the appendices were sent to all those receiving this notice in the mail. Requests for detailed maps of the proposed facilities should be made directly to Dominion.

Land Requirements for Construction

Dominion would disturb about 15.7 acres to construct the new compressor station, 26.2 acres to construct the 2 miles of pipeline, and either 1.4 acres or 2.2 acres to construct the new meter station (depending on final site selection). Dominion would also construct a pig launcher/receiver ³ within the proposed meter station site.

³ A pipeline “pig” is a device designed to internally clean or inspect the pipeline. A pig launcher/receiver is an aboveground facility where pigs are inserted or retrieved from the pipeline.

Dominion would construct its 20-inch-diameter pipeline in a 75-foot-wide construction right-of-way. Dominion would maintain a 50-foot-wide permanent right-of-way for operation and maintenance of its pipeline. Between the proposed compressor station and the meter station, 25 feet of the permanent right-of-way would overlap an existing Dominion right-of-way.

The EA Process

We are preparing this EA to comply with the National Environmental Policy Act of 1969 (NEPA) which requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this notice, we are requesting public comments on the scope of the issues to be addressed in the EA. All comments received will be considered during the preparation of the EA.

The EA will discuss impacts that could occur as a result of the construction and operation of the proposed project under the following general headings:

• Geology and soils.

• Water resources.

• Wetlands.

• Vegetation, fisheries, and wildlife (including threatened and endangered species).

• Cultural resources.

• Land use and visual quality.

• Air quality and noise.

• Reliability and safety.

We note that the proposed compressor station would be adjacent to an historic park. Additionally, we will evaluate possible alternatives to the proposed project or portions of the project, and make recommendations on how to lessen or avoid impacts on the various resource areas.

Our independent analysis of the issues will be in the EA. Depending on the comments received during the scoping process, the EA may be published for distribution and mailed to federal, state, and local agencies; public interest groups; interested individuals; affected landowners; newspapers and libraries in the project area; and the Commission's official service list for this proceeding. A comment period will be allotted for review if the EA is published. We will consider all comments on the EA before we make our recommendations to the Commission.

Public Participation

You can make a difference by providing us with your specific comments or concerns about the project. By becoming a commenter, your concerns will be addressed in the EA and considered by the Commission. Your comments should focus on the potential environmental effects of the proposal, reasonable alternatives (including alternative locations and routes), and measures to avoid or lessen environmental impact. The more specific your comments, the more useful they will be. Please carefully follow these instructions to ensure that your comments are received in time and properly recorded:

• Send an original and two copies of your letter to: Kimberly D. Bose, Secretary, Federal Energy Regulatory Commission, 888 First Street, NE.; Room 1A, Washington, DC 20426;

• Label one copy of the comments for the attention of Gas Branch 1;

• Reference Docket No. CP08-33-000;

• Mail your comments so that they will be received in Washington, DC on or before February 11, 2008.

Please note that the Commission strongly encourages electronic filing of comments. See 18 Code of Federal Regulations (CFR) 385.2001(a)(1)(iii) and the instructions on the Commission's Internet Web site at http://www.ferc.gov under the “eFiling” link and the link to the User's Guide. Prepare your submission in the same manner as you would if filing on paper and save it to a file on your computer's hard drive. Before you can file comments you will need to create an account by clicking on “Login to File” and then “New User Account.” You will be asked to select the type of filing you are making. This filing is considered a “Comment on Filing.”

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor, you must file a motion to intervene according to Rule 214 of the Commission's Rules of Practice and Procedure (18 CFR 385.214) (see appendix B).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. We encourage government representatives to notify their constituents of this proposed project and encourage them to comment on their areas of concern. If you do not return the form included as Appendix C, you will be removed from the Commission's environmental mailing list.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., CP08-33), and follow the instructions. For assistance with access to eLibrary, the helpline can be reached at 1-866-208-3676, TTY (202) 502-8659, or at FERCOnlineSupport@ ferc.gov. The eLibrary link on the FERC Internet website also provides access to the texts of formal documents issued by the Commission such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, any public meetings or site visits will be posted on the Commission's calendar located at http://www.ferc.gov/EventCalendar/EventsList.aspx along with other related information. You can also request additional information by calling Dominion at (804) 819-2064.

Kimberly D. Bose,
Secretary.

[FR Doc. E8-865 Filed 1-17-08; 8:45 am]

BILLING CODE 6717-01-P